DEPARTMENT OF COMMERCE

Bureau of the Census

[Docket Number 0909231319-91320-01]

Annual Retail Trade Survey

AGENCY: Bureau of the Census, Department of Commerce.

ACTION: Notice of determination.

SUMMARY: The Bureau of the Census (Census Bureau) publishes this notice to announce that the Director has determined the need to conduct the Annual Retail Trade Survey (ARTS). Through this survey, the Census Bureau will collect data covering annual sales, e-commerce sales, year-end inventories held inside and outside the United States, total operating expenses, purchases, accounts receivables, and for selected industries merchandise line sales, percent of sales by class of customer, and percent of e-commerce sales to customers located outside the United States.

ADDRESSES: The Census Bureau will furnish report forms to organizations included in the survey. Additional copies are available upon written request to the Director, U.S. Census Bureau, Washington, DC 20233-0101.

FOR FURTHER INFORMATION CONTACT: Aneta Erdie, Service Sector Statistics Division, at (301) 763-4841 or by e-mail at aneta.erdie@census.gov.

SUPPLEMENTARY INFORMATION: The ARTS is a continuation of similar retail trade surveys conducted each year since 1951 (except 1954). It provides, on a comparable classification basis, annual sales, e-commerce sales, purchases, total operating expenses, accounts receivables, and year-end inventories held inside and outside the United States for 2009. The Census Bureau has determined that the conduct of this survey is necessary as these data are not available publicly on a timely basis from non-governmental or other governmental sources.

The Census Bureau will require a selected sample of firms operating retail, accommodation, and food services establishments in the United States to report in the 2009 ARTS. Companies are selected for this survey using a stratified random sample based on annual sales size with a company's probability of selection increasing with their annual sales size. We will furnish report forms to the firms covered by this survey in January 2010 and will require their submissions within 30 days after receipt. The sample of firms selected will provide, with measurable reliability, statistics on annual sales, e-commerce sales, purchases, total operating expenses, accounts receivables, and year-end inventories held both inside and outside the United States for 2009.

Sections 182, 224, and 225 of Title 13 of the United States Code authorizes the Census Bureau to take surveys that are necessary to furnish current data on the subjects covered by the major censuses. As part of this authorization, the Census Bureau conducts the ARTS to provide continuing and timely national statistical data on retail trade, and accommodation and food services activity for the period between economic censuses. For 2009, the survey will, as it has in the past, operate as a sample of retail, accommodation, and food services companies. The data collected in this survey will be similar to that collected in the past and within the general scope and nature of those inquiries covered in the economic census. These data are collected to provide a sound statistical basis for the formation of policy by various government agencies. These data will be available for use for a variety of public and business needs such as economic and market analysis, company performance, and forecasting future demand.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 U.S.C. 3501-3521, OMB approved the Annual Retail Trade Survey under OMB Control Number 0607-0013.

Based upon the foregoing, I have directed that an annual survey be conducted for the purpose of collecting these data.

Dated: October 28, 2009.
Robert M. Groves,
Director, Bureau of the Census.

[FR Doc. E9-26558 Filed 11-3-09; 8:45 am]

BILLING CODE 3510-07-P